DEPARTMENT OF ENERGY

Federal Energy Regulatory Commission

[Docket No. CP07-197-000]

Freebird Gas Storage, LLC; Notice of Request Under Blanket Authorization

May 4, 2007.

Take notice that on April 25, 2007, Freebird Gas Storage, LLC (Freebird), 6363 Woodway, Suite 415, Houston, Texas 77057, filed in Docket No. CP07-197-000, an application pursuant to Part 157 of the Commission's regulations under the Natural Gas Act (NGA) as amended, to increase its maximum working gas capacity in the East Detroit Storage Facility in Lamar County, Alabama from 6 Bcf to 7.7 Bcf and increase its peak deliverability to 300,000 Mcf/d, under Freebird's blanket certificate issued in Docket No. CP05-29-000, et al., all as more fully set forth in the application which is on file with the Commission and open to the public for inspection.

Any questions concerning this application may be directed to Nadine Moustafa, Baker Botts L.L.P., 1299 Pennsylvania Ave., NW., Washington, DC 20004, phone (202) 639-7701 or Gil Muhl, Multifuels LP, 6363 Woodway, Suite 415, Houston, TX 77057, phone (832) 252-2251.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E7-8968 Filed 5-9-07; 8:45 am]

BILLING CODE 6717-01-P